FEDERAL EMERGENCY MANAGEMENT AGENCY

Notice of Adjustment of Disaster Grant Amounts

AGENCY: Federal Emergency Management Agency (FEMA).

ACTION: Notice.

SUMMARY: FEMA gives notice that we are increasing the maximum amounts for Individual and Family Grants and Small Project Grants to State and local governments and private nonprofit facilities for disasters declared on or after October 1, 2000.

EFFECTIVE DATE: October 1, 2000.

FOR FURTHER INFORMATION CONTACT: Madge Dale, Response and Recovery Directorate, Federal Emergency Management Agency, Washington, DC 20472, (202) 646-3772.

SUPPLEMENTARY INFORMATION: The Robert T. Stafford Disaster Relief and Emergency Assistance Act (Act), 42 U.S.C. 5121 et seq., prescribes that we (FEMA) must adjust annually grants made under section 411, Individual and Family grant Program, and Small Project Grants made under section 422, Simplified Procedure, relating to the Public Assistance program, to reflect changes in the Consumer Price Index for All Urban Consumers published by the Department of Labor.

We give notice that we are increasing the maximum amount of any grant made to an individual or family for disaster-related serious needs and necessary expenses under section 411 of the Act, with respect to any single disaster, to $14,400 for all disasters declared on or after October 1, 2000.

We also give notice that we are increasing the amounts of any Small Project Grant made to the State, local government, or to the owner or operator of an eligible private nonprofit facility, under section 422 of the Act, to $50,600 for all disasters declared on or after October 1, 2000.

We base the adjustments on an increase in the Consumer Price Index for All Urban Consumers of 3.4 percent for the 12-month period ended in August 2000. The Bureau of Labor Statistics of the U.S. Department of Labor released the information on September 15, 2000.

(Catalog of Federal Domestic Assistance No. 83.516, Disaster Assistance)
Dated: September 22, 2000.
James L. Witt,
Director.

[FR Doc. 00-25243 Filed 9-29-00; 8:45 am]

BILLING CODE 6718-02-P